DEPARTMENT OF COMMERCE

Foreign-Trade Zones Board

[B-15-2018]

Foreign-Trade Zone (FTZ) 38—Charleston, South Carolina; Authorization of Production Activity; BMW Manufacturing Co., LLC (Hybrid Passenger Vehicles); Spartanburg, South Carolina

On February 27, 2018, BMW Manufacturing Co., LLC (BMW) submitted a notification of proposed production activity to the FTZ Board for its facility within FTZ 38A, in Spartanburg, South Carolina.

The notification was processed in accordance with the regulations of the FTZ Board (15 CFR part 400), including notice in the Federal Register inviting public comment (83 FR 9828, March 8, 2018). On June 27, 2018, the applicant was notified of the FTZ Board's decision that no further review of the activity is warranted at this time. The production activity described in the notification was authorized, subject to the FTZ Act and the FTZ Board's regulations, including Section 400.14, and further subject to a restriction requiring that polyester band, acrylic coated cloth tape, warp knit fabric, and seat protectors be admitted in privileged foreign status (19 CFR 146.41).

Dated: June 27, 2018.
Elizabeth Whiteman,
Acting Executive Secretary.

[FR Doc. 2018-14181 Filed 6-29-18; 8:45 am]

BILLING CODE 3510-DS-P